DEPARTMENT OF JUSTICE

Notice of Lodging of Proposed Modification of Amended Consent Decree Under the Clean Air Act

On July 22, 2013, the Department of Justice lodged a proposed Joint Stipulation to Modify Section XXI of the Amended Consent Decree with the United States District Court for the Eastern District of Wisconsin in the lawsuit entitled United States and Michigan Department of Environmental Quality, Plaintiffs, and Clean Wisconsin, Sierra Club, and Citizens' Utility Board, Intervenors, v. Wisconsin Electric Power Company, Civil Action No. 03-c-0371.

The terms of the Amended Consent Decree that are subject to the proposed modification are those set forth in Section XXI of the Amended Consent Decree. Generally, those provisions preclude any transfer of an Ownership Interest in any Unit covered by the Decree unless the transferee is first made a defendant to the Decree and jointly and severally liable with Wisconsin Electric for all the requirements of the Decree that may be applicable to the transferred or purchased Ownership Interests. The proposed modification would provide that such a requirement need not apply when certain conditions obtain, such as when the transferred interest is minor and Defendant Wisconsin Electric remains liable for the Decree's terms.

The publication of this notice opens a period for public comment on the Joint Stipulation to Modify Section XXI of the Amended Consent Decree. Comments should be addressed to the Acting Assistant Attorney General, Environment and Natural Resources Division, and should refer to United States et al. v. Wisconsin Electric Power Company, D.J. Ref. No. 90-5-2-1-07493. All comments must be submitted no later than thirty (30) days after the publication date of this notice. Comments may be submitted either by email or by mail:

To submit comments: | Send them to:
By e-mail | pubcomment-ees.enrd@usdoj.gov.
By mail | Assistant Attorney General U.S. DOJ—ENRD P.O. Box 7611 Washington, DC 20044-7611.

During the public comment period, the Joint Stipulation to Modify Section XXI of the Amended Consent Decree may be examined and downloaded at this Justice Department Web site: http://www.usdoj.gov/enrd/Consent_Decrees.html. We will provide a paper copy of the Joint Stipulation to Modify Section XXI of the Amended Consent Decree upon written request and payment of reproduction costs. Please mail your request and payment to: Consent Decree Library, U.S. DOJ—ENRD, P.O. Box 7611, Washington, DC 20044-7611.

Please enclose a check or money order for $58.25 (25 cents per page reproduction cost) payable to the United States Treasury. For a paper copy without the exhibit pages, the cost is $4.25.

Maureen Katz,
Assistant Section Chief, Environmental Enforcement Section, Environment and Natural Resources Division.

[FR Doc. 2013-18045 Filed 7-26-13; 8:45 am]

BILLING CODE 4410-15-P